DEPARTMENT OF TRANSPORTATION

Pipeline and Hazardous Materials Safety Administration

[Docket No. PHMSA-2016-0110; Notice No. 2016-18]

Hazardous Materials: Damaged, Defective, Recalled Lithium Cells or Batteries or Portable Electronic Devices

AGENCY: Pipeline and Hazardous Materials Safety Administration (PHMSA), DOT.

ACTION: Safety advisory notice.

SUMMARY: The Pipeline and Hazardous Materials Safety Administration (PHMSA) is issuing a safety advisory notice to inform the public of the risks associated with transporting damaged, defective, or recalled lithium cells or batteries or portable electronic devices (PEDs), including Samsung Galaxy Note 7 smartphone devices recently recalled by the U.S. Consumer Product Safety Commission's (CPSC) [Recall No. 16-266]. PHMSA is issuing this safety advisory notice in conjunction with the CPSC recall to advise members of the public who wish to carry Samsung Galaxy Note 7 subject to CPSC Recall no. 16-266 aboard aircraft that they must take all of the following precautions:

• Turn off the device;

• Disconnect the device from any charging equipment;

• Disable all applications that could inadvertently activate the phone (e.g., alarm clock);

• Protect the power switch to prevent its unintentional activation; and

• Keep the device in carry-on baggage or on your person. (Do not place in checked baggage.)

FOR FURTHER INFORMATION CONTACT: Kevin Leary, Standards and Rulemaking Division, Pipeline and Hazardous Materials Safety Administration, telephone: (202) 366-8553.

SUPPLEMENTARY INFORMATION:

Carriage Aboard Aircraft by Passengers and Crew

Passengers or crew may only carry portable electronic devices on aircraft under the conditions of § 175.10(a)(18) of the HMR. Except as detailed below, electrical devices, such as batteries and battery-powered devices, which are likely to create sparks or generate a dangerous evolution of heat must not be transported in passenger or cargo aircraft, whether as cargo, carry-on, or in checked baggage, unless packaged in a manner, that would preclude such an occurrence. On September 2, 2016, Samsung issued a statement to consumers regarding the Samsung Galaxy Note 7. According to CPSC, “Samsung has received 92 reports of the batteries overheating in the U.S., including 26 reports of burns and 55 reports of property damage, including fires in cars and a garage.” Consequently, as a safety measure, CPSC has urged consumers to turn off, stop charging, and stop using these devices, and the FAA has advised such devices be turned off and not used or charged aboard aircraft and not be placed in checked baggage.

Federal hazardous materials transportation law (49 U.S.C. 5101-5128) authorizes the Secretary of Transportation (Secretary) to “prescribe regulations for the safe transportation, including security, of hazardous materials in intrastate, interstate, and foreign commerce.” The Secretary delegated this authority to PHMSA in 49 CFR 1.97(b). In accordance with § 173.21(c) of the HMR, electrical devices such as batteries and battery-powered devices, which are likely to create sparks or generate a dangerous evolution of heat, are forbidden for transportation unless packaged in a manner which precludes such an occurrence. Therefore, passengers or crew may only transport on board an aircraft a Samsung Galaxy Note 7 subject to CPSC Recall no. 16-266 under the following conditions:

• Turn off the device;

• Disconnect the device from any charging equipment;

• Disable all Applications that could inadvertently activate the phone (e.g. alarm clock);

• Protect the power switch to prevent its unintentional activation; and

• Keep the device in carry-on baggage or on your person. (Do not place in checked baggage.)

Additional Information

Additional information pertinent to the traveling public is available through the DOT Safe Travel Web site (see http://phmsa.dot.gov/safetravel/batteries) and through the FAA Pack Safe Web site (see http://www.faa.gov/Go/PackSafe). For additional information on returning your device to the manufacturer, please call 1-800-SAMSUNG or 1-800-726-7864. For additional information on the recall please visit the Consumer Product Safety Commission's Web site at www.cpsc.gov.

Shipments as Cargo

Lithium cells or batteries or portable electronic devices, that have been damaged or identified by the manufacturer as being defective for safety reasons, and have the potential of producing a dangerous evolution of heat, fire, or short circuit may only be transported by highway, rail or vessel in accordance with the provisions of 49 CFR 173.185(f) or under the conditions of a Special Permit or Approval issued by PHMSA's Associate Administrator for Hazardous Materials Safety. See http://www.phmsa.dot.gov/hazmat/approvals-permits for additional information on obtaining a Special Permit or Approval. For additional information please contact Kevin Leary at (202) 366-8553 or the Hazardous Materials Information Center:

• Tel: 1-800-467-4922 or 202-366-4488

• Email: infocntr@dot.gov

Issued in Washington, DC, on September 16, 2016.
Marie Therese Dominguez,
Administrator, Pipeline and Hazardous Materials Safety Administration, U.S. Department of Transportation.

[FR Doc. 2016-22777 Filed 9-21-16; 8:45 am]

BILLING CODE 4910-60-P